Title 3—

The President

Proclamation 9344 of October 8, 2015

Leif Erikson Day, 2015

By the President of the United States of America

A Proclamation

Since our Nation's founding, we have been driven by strength in the face of uncertainty and by a bold spirit of adventure. These defining forces were reflected in the early discovery of our continent when Leif Erikson—a son of Iceland and grandson of Norway—and his team became the first Europeans known to land on North American shores. On Leif Erikson Day, we honor him as an important piece of our shared past with the Norwegian people, and we celebrate the perilous yet rewarding voyage he and his crew undertook one millennium ago.

Leif Erikson's discovery marks the beginning of a meaningful friendship between Norway and the United States, and we have seen reflections of his team's journey throughout history. The courage that guided these pioneers to North America was also found in the voyage of six families who braved the unforeseen in 1825 as some of the first immigrants from Norway to the United States. Fleeing religious strife in their homeland in search of liberty's light, they sailed across the same ocean Erikson traversed more than eight centuries prior. And 190 years ago, these striving newcomers began to weave their unique threads into the fabric of America.

Today, we pay tribute to those who embarked on these expeditions and recognize the role they played in shaping our legacy as a Nation of immigrants. We also reaffirm the ties that bind America and Norway and rededicate ourselves to our common goals of securing peace and prosperity around the world. On Leif Erikson Day, let us honor his spirit by celebrating our past while fearlessly reaching for the future he knew was possible.

To honor Leif Erikson and celebrate our Nordic-American heritage, the Congress, by joint resolution (Public Law 88-566) approved on September 2, 1964, has authorized the President of the United States to proclaim October 9 of each year as “Leif Erikson Day.”

NOW, THEREFORE, I, BARACK OBAMA, President of the United States of America, do hereby proclaim October 9, 2015, as Leif Erikson Day. I call upon all Americans to observe this day with appropriate ceremonies, activities, and programs to honor our rich Nordic-American heritage.

IN WITNESS WHEREOF, I have hereunto set my hand this eighth day of October, in the year of our Lord two thousand fifteen, and of the Independence of the United States of America the two hundred and fortieth.

[FR Doc. 2015-26339

Filed 10-13-15; 11:15 am]

Billing code 3295-F6-P